DEPARTMENT OF COMMERCE

National Oceanic and Atmospheric Administration

RIN 0648-XF549

Pacific Islands Pelagic Fisheries; American Samoa Longline Limited Entry Program

AGENCY: National Marine Fisheries Service (NMFS), National Oceanic and Atmospheric Administration (NOAA), Commerce.

ACTION: Notice; availability of permits.

SUMMARY: NMFS announces that 12 American Samoa pelagic longline limited entry permits in three vessel size classes are available for 2017. NMFS is accepting applications for these available permits.

DATES: NMFS must receive completed permit applications and payment by November 20, 2017.

ADDRESSES: Request a blank application from the NMFS Pacific Islands Regional Office (PIR), 1845 Wasp Blvd., Bldg. 176, Honolulu, HI 96818, or the PIR Web site www.fpir.noaa.gov/Library/SFD/Samoa_LE_App_Fillable_03Jun16.pdf. Mail your completed application and payment to: ASLE Permits, NOAA NMFS PIR, 1845 Wasp Blvd., Bldg. 176, Honolulu, HI 96818.

FOR FURTHER INFORMATION CONTACT: Walter Ikehara, Sustainable Fisheries, NMFS PIR, tel 808-725-5175, fax 808-725-5215, or email PIRO-permits@noaa.gov.

SUPPLEMENTARY INFORMATION: Federal regulations at 50 CFR 665.816 allow NMFS to issue new permits for the American Samoa pelagic longline limited entry program if the number of permits in a size class falls below the maximum allowed. At least 12 permits are available for issuance, as follows:

• Ten in Class A (vessels less than or equal to 40 ft in overall length);

• One in Class B (over 40 ft to 50 ft); and

• One in Class C (over 50 to 70 ft).

Please note that the number of available permits may change before the application period closes.

NMFS will only consider complete applications, which must include the completed and signed application form, evidence of documented participation in the fishery, and non-refundable payment for the application-processing fee.

If NMFS receives more completed applications than the number of available permits for a given permit class, NMFS will prioritize applicants using the information in the applications and documentation provided by the applicants. If an applicant requests NMFS, in writing, to use NMFS longline logbook data as evidence of documented participation, the applicant must specify the qualifying vessel, official number, and month and year of the logbook records (NMFS will not conduct an unlimited search for records).

Applicants with the earliest documented participation in the fishery on a Class A sized vessel will receive the highest priorities for obtaining permits in any size class, followed by applicants with the earliest documented participation in Classes B, C, and D, in that order. In the event of a tie in the priority ranking between two or more applicants, NMFS will rank higher the applicant whose second documented participation is earlier. Detailed criteria for prioritization of eligible applicants are in the regulations at 50 CFR 665.816(g).

NMFS must receive applications by November 20, 2017 to be considered for a permit (see ADDRESSES). NMFS will not accept applications received after that date.

Authority: 16 U.S.C. 1801 et seq.

Dated: July 18, 2017.
Emily H. Menashes,
Acting Director, Office of Sustainable Fisheries, National Marine Fisheries Service.

[FR Doc. 2017-15387 Filed 7-20-17; 8:45 am]

BILLING CODE 3510-22-P